DEPARTMENT OF COMMERCE

Economic Development Administration

Submission for OMB Review; Comment Request

The Department of Commerce will submit to the Office of Management and Budget (OMB) for clearance the following proposal for collections of information under the provisions of the Paperwork Reduction Act (44 U.S.C. Chapter 35).

On February 13, 2019, the Economic Development Administration (EDA) published a 60-day notice in the Federal Register with a request for comments on the Petition by a Firm for Certification of Eligibility to Apply for Trade Adjustment Assistance, and Adjustment Proposals and received a total of eleven comments. Several comments stated that the estimate of burden hours for completing the ED-840P was too low. EDA subsequently conducted a survey and found that the average response was 173 hours, instead of the original estimate of 128.2 hours. The burden estimates provided in this notice represent the adjusted burden estimates.

Agency: Economic Development Administration (EDA), Department of Commerce.

Title: Petition by a Firm for Certification of Eligibility to Apply for Trade Adjustment Assistance, and Adjustment Proposals.

OMB Control Number: 0610-0091.

Form Number(s): ED-840P.

Type of Request: Regular submission (revision of a currently approved collection).

Number of Respondents: 300.

Average Hours per Response: 173 hours.

Burden Hours: 25,950 hours.

Needs and Uses: The information collected on Form ED-840P, Petition by a Firm for Certification of Eligibility to Apply for Trade Adjustment Assistance, and relevant supporting documentation is used to determine whether a firm satisfies the eligibility and programmatic requirements contained in chapters 3 and 5 of title II of the Trade Act of 1974, as amended (19 U.S.C. 2341). If certified as eligible for Trade Adjustment Assistance following submission of Form ED-840P, firms must create an EDA-approved Adjustment Proposal in order to receive Trade Adjustment Assistance.

Affected Public: Businesses or other for-profit organizations.

Frequency: During application for Trade Adjustment Assistance.

Respondent's Obligation: Mandatory.

This information collection request may be viewed at reginfo.gov. Follow the instructions to view Department of Commerce collections currently under review by OMB.

Written comments and recommendations for the proposed information collection should be sent within 30 days of publication of this notice to OIRA_Submission@omb.eop.gov or faxed to (202) 395-5806.

Sheleen Dumas,
Departmental Lead PRA Officer, Office of the Chief Information Officer, Commerce Department.

[FR Doc. 2019-11518 Filed 6-3-19; 8:45 am]

BILLING CODE 3510-34-P